DEPARTMENT OF HEALTH AND HUMAN SERVICES

Meeting of the Advisory Group on Prevention, Health Promotion, and Integrative and Public Health

AGENCY: Department of Health and Human Services, Office of the Secretary, Office of the Assistant Secretary for Health, Office of the Surgeon General of the United States Public Health Service.

ACTION: Notice.

SUMMARY: In accordance with Section 10(a) of the Federal Advisory Committee Act, Public Law 92-463, as amended (5 U.S.C. App.), notice is hereby given that a meeting is scheduled to be held for the Advisory Group on Prevention, Health Promotion, and Integrative and Public Health (the “Advisory Group”). The meeting will be open to the public. Information about the Advisory Group and the agenda for this meeting can be obtained by accessing the following Web site: http://www.surgeongeneral.gov/initiatives/prevention/advisorygrp/index.html

DATES: The meeting will be held on March 28-29, 2013. Exact start and end times will be published closer to the meeting date at: http://www.surgeongeneral.gov/initiatives/prevention/advisorygrp/index.html.

ADDRESSES: 200 Independence Ave., SW., Room 505A, Washington, DC 20201.

FOR FURTHER INFORMATION CONTACT: Office of the Surgeon General, 200 Independence Ave., SW.; Hubert H. Humphrey Building, Room 701H; Washington, DC 20201; 202-205-9517; prevention.council@hhs.gov.

SUPPLEMENTARY INFORMATION: On June 10, 2010, the President issued Executive Order 13544 to comply with the statutes under Section 4001 of the Patient Protection and Affordable Care Act, Public Law 111-148. This legislation mandated that the Advisory Group was to be established within the Department of Health and Human Services. The charter for the Advisory Group was approved by the Secretary of Health and Human Services on June 23, 2010; the charter was filed with the appropriate Congressional committees and the Library of Congress on June 24, 2010. The Advisory Group was established as a non-discretionary federal advisory committee. The Advisory Group was authorized to operate until June 10, 2012. Because the Advisory Group had been established by Presidential directive, it was necessary for appropriate action to be taken by the President or agency head to give authorization for the Advisory Group to be continued. The President issued Executive Order 13591, dated November 23, 2011, to give authorization for the Advisory Group to continue to operate until September 30, 2012. No action was taken to continue the Advisory Group after the designated date. Therefore, the Advisory Group was terminated on September 30, 2012. On December 7, 2012, the President issued Executive Order 13631 to re-establish the Advisory Group. A charter was developed for this purpose. The charter was approved by the Secretary of Health and Human Services and filed with the appropriate Congressional committees, the Library of Congress, and the Committee Management Secretariat under the General Services Administration on February 6, 2013. The Advisory Group has been re-established as a non-discretionary federal advisory committee.

Under Executive Order 13631, authorization is given for the Advisory Group to continue to operate as if the Committee had not been terminated on September 30, 2012. The Advisory Group will continue to provide recommendations and advice to the National Prevention, Health Promotion and Public Health Council (the “Council”). The Advisory Group will continue to provide assistance to the Council in carrying out its mission. Under the existing directive, the Advisory Group is authorized to continue to operate until September 30, 2013.

The Advisory Group membership shall consist of not more than 25 non-federal members to be appointed by the President. The membership shall include a diverse group of licensed health professionals, including integrative health practitioners who have expertise in (1) Worksite health promotion; (2) community services, including community health centers; (3) preventive medicine; (4) health coaching; (5) public health education; (6) geriatrics; and (7) rehabilitation medicine. There are currently 22 members of the Advisory Group appointed by the President. This will be the seventh meeting of the Advisory Group.

Public attendance at the meeting is limited to the space available. Members of the public who wish to attend must register by 12:00 p.m. EST on March 18, 2013. Individuals should register for public attendance at prevention.council@hhs.gov by providing your full name and affiliation. Individuals who plan to attend the meeting and need special assistance and/or accommodations, i.e., sign language interpretation or other reasonable accommodations, should indicate so when they register. The public will have the opportunity to provide comments to the Advisory Group on March 29, 2013; public comment will be limited to 3 minutes per speaker. Registration through the designated contact for the public comment session is also required. Any member of the public who wishes to have printed materials distributed to the Advisory Group for this scheduled meeting should submit material to the designed point of contact no later than 12:00 p.m. EST on March 18, 2013.

Dated: February 20, 2013.
Corinne M. Graffunder,
Designated Federal Officer, Advisory Group on Prevention, Health Promotion, and Integrative and Public Health, Office of the Surgeon General.

[FR Doc. 2013-05212 Filed 3-6-13; 8:45 am]

BILLING CODE 4163-18-P